FEDERAL COMMUNICATIONS COMMISSION

47 CFR Part 73

[DA 06-610; MB Docket No. 05-246, RM-11263, RM-11309]

Radio Broadcasting Services; Hallettsville, Meyersville, San Antonio, and Yoakum, TX

AGENCY: Federal Communications Commission.

ACTION: Final rule.

SUMMARY: In response to a Notice of Proposed Rule Making, this Report and Order allots Channel 261A to Meyersville, Texas, as a first competitive local aural transmission service. The coordinates for Channel 261A at Meyersville, Texas are 28-54-58 NL and 97-19-37 WL, with a site restriction of 2.0 kilometers (1.2 miles) southwest of Meyersville, Texas. Further, this Report and Order reclassifies Station KCYY(FM), San Antonio, Texas, from Channel 262C to Channel 262C0, in order to accommodate the allotment of Channel 261A to Meyersville. The Report and Order also denies a counterproposal filed by LaGrange Broadcasting Corporation requesting that Channel 261A be substituted for Channel 260A, Station KTXM(FM), Hallettsville, Texas, and reallotted to Yoakum, Texas, as a second local aural transmission service.

DATES: Effective May 1, 2006.

ADDRESSES: Federal Communications Commission, 445 Twelfth Street, SW., Washington, DC 20554.

FOR FURTHER INFORMATION CONTACT: R. Barthen Gorman, Media Bureau, (202) 418-2180.

SUPPLEMENTARY INFORMATION: This is a synopsis of the Commission's Report and Order in MB Docket No. 05-246, adopted March 15, 2006, and released March 17, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A). In addition, the Report and Order makes an editorial change in the existing FM Table of Allotments under Texas by replacing Channel 225C, San Antonio, with Channel 225C1, San Antonio.

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, 336.

§ 73.202 [Amended]

2. Section 73.202(b), the Table of FM Allotments under Texas, is amended by adding Meyersville, Channel 261A; by removing Channel 262C and Channel 225C and adding Channel 262C0 and Channel 225C1 at San Antonio.

Federal Communications Commission.
John A. Karousos,
Assistant Chief, Audio Division, Media Bureau.

[FR Doc. 06-3906 Filed 4-25-06; 8:45 am]

BILLING CODE 6712-01-P